DEPARTMENT OF TRANSPORTATION

Federal Aviation Administration

14 CFR Part 71

[Docket FAA No. FAA-2012-0433; Airspace Docket No. 12-AAL-5]

Establishment of Class D Airspace; Bryant AAF, Anchorage, AK

AGENCY: Federal Aviation Administration (FAA), DOT.

ACTION: Final rule; correction.

SUMMARY: This action corrects a final rule published in the Federal Register August 8, 2013 that establishes Class D airspace at Bryant Army Airfield (AAF), Anchorage, AK. In that rule, an error was made in the legal description for Bryant AAF, in that the language indicating Class D airspace as part time was left out.

DATES: Effective date, 0901 UTC, October 17, 2013. The Director of the Federal Register approves this incorporation by reference action under 1 CFR part 51, subject to the annual revision of FAA Order 7400.9 and publication of conforming amendments.

FOR FURTHER INFORMATION CONTACT: Richard Roberts, Federal Aviation Administration, Operations Support Group, Western Service Center, 1601 Lind Avenue SW., Renton, WA 98057; telephone (425) 203-4517.

SUPPLEMENTARY INFORMATION:

History

The FAA published a final rule in the Federal Register establishing Class D airspace at Bryant AAF, Anchorage, AK (78 FR 48299, August 8, 2013). In the regulatory text, language indicating the Class D airspace area is part time established in advance with a Notice to Airmen was omitted and is now included.

Class D airspace designations are published in paragraph 5000 of FAA Order 7400.9X, dated August 7, 2013, and effective September 15, 2013, which is incorporated by reference in 14 CFR 71.1. The Class D airspace designations listed in this document will be published subsequently in that Order.

Correction to Final Rule

Accordingly, pursuant to the authority delegated to me, amendatory instruction 2 and the legal description for Bryant Army Airfield, Anchorage, AK, as published in the Federal Register on August 8, 2013 (78 FR 48299), FR Doc. 2013-18866, are corrected as follows:

§ 71.1 [Amended]

1. On page 48300, column 1, revise amendatory instruction 2 to read: The incorporation by reference in 14 CFR 71.1 of the Federal Aviation Administration Order 7400.9X, Airspace Designations and Reporting Points, dated August 7, 2013, and effective September 15, 2013, is amended as follows:

AAL AK D Bryant Army Airfield, Anchorage, AK [Corrected]

2. On page 48300, column 1, line 56, the following is added to the regulatory text: This Class D airspace area is effective during the specific dates and times established in advance by a Notice to Airmen. The effective date and time will thereafter be continuously published in the Airport/Facility Directory.

Issued in Seattle, Washington, on September 11, 2013.
Christopher Ramirez,
Acting Manager, Operations Support Group, Western Service Center.

[FR Doc. 2013-23016 Filed 9-20-13; 8:45 am]

BILLING CODE 4910-13-P